DEPARTMENT OF HEALTH AND HUMAN SERVICES

Centers for Disease Control and Prevention

[30Day-14-14AHH]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Assessing Education Agency Staff Perceptions of School Climate and Youth Access to Services—New—Division of Adolescent and School Health (DASH), National Center for HIV/AIDS, Viral Hepatitis, STD, and TB Prevention, Centers for Disease Control and Prevention (CDC).

Background and Brief Description

HIV infections remain high among young men who have sex with men (YMSM). The estimated number of new HIV infections increased between 2008 and 2010 both overall and among men who have sex with men (MSM) ages 13 to 24. Furthermore, sexual risk behaviors associated with HIV, other sexually transmitted disease (STD), and pregnancy often emerge in adolescence. For example, 2011 Youth Risk Behavior Surveillance System (YRBSS) data revealed 47.4% of U.S. high school students reported having had sex, and among those who had sex in the previous three months, 39.8% reported having not used a condom during last sexual intercourse. In addition, 2001-2009 YRBSS data revealed high school students identifying as gay, lesbian, and bisexual and those reporting sexual contact with both males and females were more likely to engage in sexual risk-taking behaviors than heterosexual students.

Given the disproportionate risk for HIV among YMSM ages 13-24, it is important to find ways to reach the younger youth (i.e., ages 13-19) in this range to decrease sexual risk behaviors and increase health-promoting behaviors such as routine HIV testing. Schools provide one opportunity for this. Because schools enroll more than 22 million teens (ages 14-19) and often have existing health and social services infrastructure, schools and their staff members are well-positioned to connect youth to a wide range of needed services, including housing assistance, support groups, and sexual health services such as HIV testing. As a result, CDC's DASH has focused a number of HIV and STD prevention efforts on strategies that can be implemented in or centered around schools.

However, conducting HIV and STD prevention work (particularly work that is designed to specifically meet the needs of YMSM), can be challenging. School is not always a welcoming environment for lesbian, gay, bisexual, transgender, and questioning (LGBTQ) youth. Harassment, bullying, and verbal and physical assault are often reported, and such unsupportive environments and victimization among LGBT youth are associated with a variety of negative outcomes, including truancy, substance use, poor mental health, HIV and STD risk, and even suicide.

The Centers for Disease Control and Prevention (CDC) requests a 3-year OMB approval to conduct a new information collection entitled, “Assessing Education Agency Staff Perceptions of School Climate and Youth Access to Services.” The information collection uses two separate, but complementary, information collections to conduct assessment of HIV and STD prevention efforts that are taking place in three local education agencies (LEA) funded by the CDC's Division of Adolescent and School Health (DASH) under strategy 4 (School-Centered HIV/STD Prevention for Young Men Who Have Sex with Men (YMSM) of PS13-1308: Promoting Adolescent Health through School-Based HIV/STD Prevention and School-Based Surveillance.

This data collection will provide data and reports for the funded LEAs, and will allow the LEAs to identify areas of the program that are working well and other areas that will need additional improvement. In addition, the findings will allow CDC to determine the potential impact of currently recommended strategies and make changes to those recommendations if necessary.

The first information collection will involve collecting information from a total of up to 735 LEA employees in three LEAs through a Web-based instrument tailored to each LEA. The instrument will include items that ask education agency staff about professional development, referral practices, community linkages/partners, school climate for LGBTQ youth, school policies and practices, and staff comfort levels in helping address the health needs of YMSM.

The second information collection will be conducted in only one LEA (Broward County Public Schools) and is designed to provide an in-depth assessment of one LEA as a way to supplement the Web-based data collection with more detailed information. This information collection will involve in-person interviews with up to 44 LEA employees (2 district level employees, and up to 6 school level employees in each of 7 schools) to learn about six domains that can impact school climate: Policy, practice, programs, professional development, place, and pedagogy.

Both the Web-based instrument and in-person interviews will be administered in 2014 and 2016. These data collection points coincide with the initiation of project activities and the mid-way points of the PS13-1308 cooperative agreement. Although some staff may participate in the data collection in multiple years, this is not a longitudinal design and individual staff member responses will not be tracked across the years. No personally identifiable information will be collected.

All school staff members will receive informed consent forms prior to participation in the information collection. The consent form explains the study and also explains participants may choose not to complete the Web-based instrument or participate in the interviews with no penalty and no impact on their job or relationship with the LEA. Participation is completely voluntary.

For the Web-based instrument, the estimated burden per response ranges from 20-25 minutes. This variation in burden is due to the slight variability in skip patterns that may occur with certain responses and variations in the reading speed of respondents. The burden estimates presented here are based on the assumption of a 25-minute response time per response. The estimated annualized burden of this data collection is 204 hours for respondents. There are no costs to respondents other than their time.

For the Web-based instrument, the estimated burden per response ranges from 60-90 minutes, depending on whether the respondent is a district-level administrator, a school-level administrator, or another school staff member. The burden estimates presented here are based on the assumption of a 1-hour response time per district-level and school-level administrator response and a 1.5-hour response time per school staff member response. The estimated annualized burden of this data collection is 39 hours for respondents. There are no costs to respondents other than their time.

The two information collections combine for a total estimated annualized burden of 243 hours for respondents. There are no costs to respondents other than their time.

Estimated Annualized Burden to Respondents
Respondents | Form name | Number of respondents | Number of responses per respondent | Average burden per response (in hours)
School staff | Web-based instrument for Broward County Public Schools | 163 | 1 | 25/60
School staff | Web-based instrument for Los Angeles Unified School District | 163 | 1 | 25/60
School staff | Web-based instrument for San Francisco Unified School District | 163 | 1 | 25/60
District-level Administrators | School Climate Index Interview Guide for District-level Administrators | 1 | 1 | 1
School-level Administrators | School Climate Index Interview Guide for School-level Administrators | 9 | 1 | 1
School Staff | School Climate Index Interview Guide for School Staff | 19 | 1 | 1.5

Leroy A. Richardson,
Chief, Information Collection Review Office, Office of Scientific Integrity, Office of the Associate Director for Science, Office of the Director, Centers for Disease Control and Prevention.

[FR Doc. 2014-21754 Filed 9-11-14; 8:45 am]

BILLING CODE 4163-18-P